DEPARTMENT OF AGRICULTURE

Forest Service

Land Between The Lakes Advisory Board

AGENCY: Forest Service, USDA.

ACTION: Notice of meeting.

SUMMARY: The Land Between The Lakes Advisory Board will hold a meeting in Golden Pond, Kentucky. Notice of this meeting is in compliance with the Federal Advisory Committee Act (5 U.S.C. App 2). The meeting is open to the public and the agenda will focus on existing Environmental Education programs and improving engagement with regional school groups.

DATES: The meeting will be held on Thursday, November 14, 2013, from 9:00 a.m. to approximately 4:00 p.m., Central Standard Time.

ADDRESSES: The meeting will be held at the Administration Office of Land Between The Lakes, 100 Van Morgan Drive, Golden Pond, Kentucky.

Written comments may be submitted as described under Supplementary Information. All comments, including names and addresses when provided, are placed in the record and are available for public inspection and copying.

FOR FURTHER INFORMATION CONTACT: Linda L. Taylor, Advisory Board Liaison, by phone at 270-924-2002.

Individuals who use telecommunication devices for the deaf (TDD) may call the Federal Information Relay Service (FIRS) at 1-800-877-8339 between 8:00 a.m. and 8:00 p.m., Eastern Standard Time, Monday through Friday.

SUPPLEMENTARY INFORMATION: Written comments are invited and must be sent to Tina Tilley, Area Supervisor, Land Between The Lakes, 100 Van Morgan Drive, Golden Pond, Kentucky 42211. Comments must be received by November 7, 2013 for copies to be provided to the members for this meeting. Board members will review written comments received, and at their request, oral clarification may be requested for a future meeting.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: October 25, 2013.
Tina R. Tilley,
Area Supervisor, Land Between The Lakes.

[FR Doc. 2013-25878 Filed 10-30-13; 8:45 am]

BILLING CODE 3410-11-P